DEPARTMENT OF HOUSING AND URBAN DEVELOPMENT

[Docket No. FR-4644-N-02]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appr9priate landholding agencies at the following addresses: AIR FORCE: Ms. Barbara Jenkins, Air Force Real Estate Agency (Area-MI), Bolling Air Force Base, 112 Luke Ave., Suite 104, Building 5683, Washington, DC 20332-8020; (202) 767-4184; COE: Ms. Shirley Middleswarth, Army Corps of Engineers, Management & Disposal Division, Pulaski Building, Room 4224, 20 Massachusetts Ave., NW, Washington, DC 20314-1000; (202) 761-0515; DOT: Mr. Rugene Spruill, Space Management, SVC-140, Transportation Administrative Service, Center, Department of Transportation, 400 7th Street, SW Room 2310, Washington, DC 20590; (202) 366-4246; GSA: Mr. Brian K. Polly, Assistant Commissioner, General Services Administration, Office of Property Disposal, 18th and F Streets, NW, Washington, DC 20405; (202) 501-0386; NAVY: Mr. Charles C. Cocks, Director, Department of the Navy, Real Estate Policy Division, Naval Facilities Engineering Command, Washington Navy Yard, 1322 Patterson Ave., SE, Suite 1000, Washington, DC 20374-5065; (202) 685-9200; (These are not toll-free numbers).

Dated: January 4, 2001.
John D. Garrity,
Director, Office of Special Needs Assistance Programs.

Title V, Federal Surplus Property Program Federal Register Report for 1/12/01

Suitable/Available Properties

Buildings (by State)

Alaska

Bldg. 747

USCG Integrated Support

Command

Nemetz Housing

Kodiak Co: AK 99615-

Landholding Agency: DOT

Property Number: 87200110001

Status: Excess

Comment: 4-plex, needs repair, presence of asbestos/lead paint, most recent use—residential, off-site use only.

Bldg. 750

USCG Integrated Support

Command

Nemetz Housing

Kodiak Co: AK 99615-

Landholding Agency: DOT

Property Number: 87200110002

Status: Excess

Comment: 4-plex, needs repair, presence of asbestos/lead paint, most recent use—residential, off-site use only.

Bldg. 751

USCG Integrated Support

Command

Nemetz Housing

Kodiak Co: AK 99615-

Landholding Agency: DOT

Property Number: 87200110003

Status: Excess

Comment: 4-plex, needs repair, presence of asbestos/lead paint, most recent use—residential, off-site use only.

Suitable/Available Properties

Buildings (by State)

Alaska

Bldg. 752

USCG Integrated Support

Command

Nemetz Housing

Kodiak Co: AK 99615-

Landholding Agency: DOT

Property Number: 87200110004

Status: Excess

Comment: 4-plex, needs repair, presence of asbestos/lead paint, most recent use—residential, off-site use only.

Bldg. 753

USCG Integrated Support

Command

Nemetz Housing

Kodiak Co: AK 99615-

Landholding Agency: DOT

Property Number: 87200110005

Status: Excess

Comment: 4-plex, needs repair, presence of asbestos/lead paint, most recent use—residential, off-site use only.

Bldg. 754

USCG Integrated Support

Command

Nemetz Housing

Kodiak Co: AK 99615-

Landholding Agency: DOT

Property Number: 87200110006

Status: Excess

Comment: 4-plex, needs repair, presence of asbestos/lead paint, most recent use—residential, off-site use only.

Suitable/Available Properties

Buildings (by State)

Alaska

Bldg. 755

USCG Integrated Support

Command

Nemetz Housing

Kodiak Co: AK 99615-

Landholding Agency: DOT

Property Number: 87200110007

Status: Excess

Comment: 4-plex, needs repair, presence of asbestos/lead paint, most recent use—residential, off-site use only.

Bldg. 759

USCG Integrated Support

Command

Nemetz Housing

Kodiak Co: AK 99615-

Landholding Agency: DOT

Property Number: 87200110008

Status: Excess

Comment: 4-plex, needs repair, presence of asbestos/lead paint, most recent use—residential, off-site use only.

California

Bldg. 200

Naval Postgraduate School

Monterey Co: CA 93943-

Landholding Agency: Navy

Property Number: 77200110007

Status: Excess

Comment: 7390 sq. ft., needs rehab, presence of asbestos/lead paint, most recent use—police station.

Suitable/Available Properties

Buildings (by State)

California

Bldg. 205

Naval Postgraduate School

Monterey Co: CA 93943-

Landholding Agency: Navy

Property Number: 77200110008

Status: Excess

Comment: 3886 sq. ft., needs rehab, presence of asbestos/lead paint, most recent use—offices.

Bldg. 211

Naval Postgraduate School

Monterey Co: CA 93943-

Landholding Agency: Navy

Property Number: 77200110009

Status: Excess

Comment: 6329 sq. ft., needs rehab, presence of asbestos/lead paint, most recent use—offices.

Bldg. 228

Naval Postgraduate School

Monterey Co: CA 93943-

Landholding Agency: Navy

Property Number: 77200110010

Status: Excess

Comment: 6000 sq. ft., needs rehab, presence of asbestos/lead paint, most recent use—fitness center.

Suitable/Available Properties

Buildings (by State)

Hawaii

8 Bldgs.

Iroquois Point Navy Housing

Ewa Beach Co: HI 96706-

Location: #5404, 5409, 5415, 5441, 5403, 5411, 5413, 5435

Landholding Agency: Navy

Property Number: 77200110015

Status: Unutilized

Comment: 1808 to 2000 sq. ft., presence of asbestos/lead paint, most recent use—residential, off-site use only.

Indiana

Radio Tower

Myers Locks & Dam Project

Mt. Vernon Co: IN 47620-

Landholding Agency: COE

Property Number: 31200040002

Status: Excess

Comment: communication, off-site use only.

Towers #1 & #2

Newburgh Locks & Dam

Newburgh Co: IN 47630-

Landholding Agency: COE

Property Number: 31200040003

Status: Excess

Comment: radio towers, off-site use only.

Suitable/Available Properties

Buildings (by State)

Indiana

Radio Tower

Cagles Mill Project

Cloverdale Co: IN 47872-

Landholding Agency: COE

Property Number: 31200040004

Status: Excess

Comment: communication, off-site use only.

Radio Tower

C.M. Harden Project

Rockville Co: IN 47872-

Landholding Agency: COE

Property Number: 31200040005

Status: Excess

Comment: communication, off-site use only.

Radio Tower

Mississinewa Lake Project

Peru Co: IN 46970-

Landholding Agency: COE

Property Number: 31200040006

Status: Excess

Comment: communication, off-site use only.

Suitable/Available Properties

Buildings (by State)

Indiana

Radio Tower

Patoka Lake Project

Birdseye Co: IN 46970-

Landholding Agency: COE

Property Number: 31200040007

Status: Excess

Comment: communication, off-site use only.

Minnesota

Storage Bldg.

Upper St. Anthony Falls Lock & Dam

Minneapolis Co: Hennepin MN 55401-2528

Landholding Agency: COE

Property Number: 31200040009

Status: Unutilized

Comment: 192 sq. ft., cold storage, off-site use only.

Montana

Bldg. 1

Butte Natl Guard

Butte Co: Silverbow MT 59701-

Landholding Agency: COE

Property Number: 31200040010

Status: Unutilized

Comment: 22799 sq. ft., presence of asbestos, most recent use—cold storage, off-site use only.

Suitable/Available Properties

Buildings (by State)

Montana

Bldg. 2

Butte Natl Guard

Butte Co: Silverbow MT 59701-

Landholding Agency: COE

Property Number: 31200040011

Status: Unutilized

Comment: 3292 sq. ft., most recent use—cold storage, off-site use only.

Bldg. 3

Butte Natl Guard

Butte Co: Silverbow MT 59701-

Landholding Agency: COE

Property Number: 31200040012

Status: Unutilized

Comment: 964 sq. ft., most recent use—cold storage, off-site use only.

Bldg. 4

Butte Natl Guard

Butte Co: Silverbow MT 59701-

Landholding Agency: COE

Property Number: 31200040013

Status: Unutilized

Comment: 72 sq. ft., most recent use—cold storage, off-site use only.

Suitable/Available Properties

Buildings (by State)

Montana

Bldg. 5

Butte Natl Guard

Butte Co: Silverbow MT 59701-

Landholding Agency: COE

Property Number: 31200040014

Status: Unutilized

Comment: 1286 sq. ft., most recent use—cold storage, off-site use only.

New York

Lockport Comm. Facility

Shawnee Road

Lockport Co: Niagara NY

Landholding Agency: 18200040004

Status: Excess

Comment: 2 concrete block bldgs., (415 & 2929 sq. ft.) on 7.68 acres.

Land (by State)

Kentucky

Carr Creek Lake Project

Tract Nos. 611, 681, 619

Sassafras Co: KY 41759-9703

Landholding Agency: COE

Property Number: 31200040008

Status: Excess

Comment: irregular-shaped, very steep.

Suitable/Unavailable Properties

Buildings (by State)

Maine

Dow Pines Rec Site

Great Pond Co: Hancock ME 04408-

Landholding Agency: Air Force

Property Number: 18200040005

Status: Excess

Comment: 12 bldgs. totaling 19012 sq. ft. on approx. 376 acres, (5 cabins, bathhouse, rec bldg, lodges).

Suitable/To Be Excessed

Buildings (by State)

South Dakota

Family Residence

Oahe Dam/Lake Oahe Proj.

205 East 5th Ave

Pierre Co: SD 57501-

Landholding Agency: COE

Property Number: 31200040015

Status: Unutilized

Comment: 912 sq. ft., possible asbestos/lead paint, off-site use only.

Family Residence

Oahe Dam/Lake Oahe Proj.

2412 East Reen St.

Pierre Co: SD 57501-

Landholding Agency: COE

Property Number: 31200040016

Status: Unutilized

Comment: 912 sq. ft., possible asbestos/lead paint, off-site use only.

Family Residence

Oahe Dam/Lake Oahe Proj.

914 South Arthur Ave

Pierre Co: SD 57501-

Landholding Agency: COE

Property Number: 31200040017

Status: Unutilized

Comment: 1248 sq. ft., possible asbestos/lead paint, off-site use only.

Suitable/To Be Excessed

Buildings (by State)

South Dakota

Family Residence

Oahe Dam/Lake Oahe Proj.

917 South McKinley Ave

Pierre Co: SD 57501-

Landholding Agency: COE

Property Number: 31200040018

Status: Unutilized

Comment: 1488 sq. ft., possible asbestos/lead paint, off-site use only.

Unsuitable Properties

Buildings (by State)

Arizona

Bldg. 321

Marine Corps Air Station

Yuma Co: AZ 85369-

Landholding Agency: Navy

Property Number: 77200110001

Status: Excess

Reason: Extensive deterioration.

Bldg. 322

Marine Corps Air Station

Yuma Co: AZ 85369-

Landholding Agency: Navy

Property Number: 77200110002

Status: Excess

Reason: Extensive deterioration.

Bldg. 331

Marine Corps Air Station

Yuma Co: AZ 85369-

Landholding Agency: Navy

Property Number: 77200110003

Status: Excess

Reason: Extensive deterioration.

Unsuitable Properties

Buildings (by State)

Arizona

Bldg. 332

Marine Corps Air Station

Yuma Co: AZ 85369-

Landholding Agency: Navy

Property Number: 77200110004

Status: Excess

Reason: Extensive deterioration.

California

Bldg. 27

Naval Postgraduate School

Fleet Numerical Meteor & Ocean. Ctr.

Monterey Co: CA 93943-

Landholding Agency: Navy

Property Number: 77200110005

Status: Excess

Reason: Secured Area.

Bldg. 50

Naval Postgraduate School

Fleet Numerical Meteor & Ocean. Ctr.

Monterey Co: CA 93943-

Landholding Agency: Navy

Property Number: 77200110006

Status: Excess

Reason: Secured Area.

Unsuitable Properties

Buildings (by State)

California

Bldg. 1468

Naval Base Ventura

on Parcel 1

Port Hueneme Co: Ventura CA 93042-5000

Landholding Agency: Navy

Property Number: 77200110013

Status: Unutilized

Reason: Secured Area

Bldg. 1469

Naval Base Ventura

on Parcel 1

Port Hueneme Co: Ventura CA 93042-5000

Landholding Agency: Navy

Property Number: 77200110014

Status: Unutilized

Reason: Secured Area

Florida

Bldg. 1558

Naval Station Mayport

Mayport Co: Duval FL 32228-

Landholding Agency: Navy

Property Number: 77200110016

Status: Unutilized

Reasons: Floodway, Secured Area, Extensive deterioration.

Unsuitable Properties

Buildings (by State)

Idaho

Rexburg Army Reserve Center

379 S. 2nd St. East

Rexburg Co: Madison ID 83440-

Landholding Agency: GSA

Property Number: 54200110001

Status: Excess

Reason: Within 2000 ft. of flammable or explosive material

GSA Number: 9-D-ID-546.

North Carolina

Bldg. 1856

Camp Lejeune

Camp Lejeune Co: Onslow NC 28542-0004

Landholding Agency: Navy

Property Number: 77200110017

Status: Unutilized

Reason: Extensive deterioration.

Texas

Bldg. 1504

Naval Air Station

Joint Reserve Base

Ft. Worth Co: Tarrant TX 76127-6200

Landholding Agency: Navy

Property Number: 77200110018

Status: Unutilized

Reason: Extensive deterioration.

Unsuitable Properties

Land (by State)

California

Parcel 1

Naval Base Ventura

NWC & SWC 32nd Ave.

Port Hueneme Co: Ventura CA 93043-4300

Landholding Agency: Navy

Property Number: 77200110011

Status: Underutilized

Reason: Secured Area.

Parcel 2

Naval Base Ventura

NWC Patterson Rd.

Port Hueneme Co: Ventura CA 93043-4300

Landholding Agency: Navy

Property Number: 77200110012

Status: Underutilized

Reason: Secured Area.

[FR Doc. 01-631 Filed 1-11-01; 8:45 am]

BILLING CODE 4210-29-M